DEPARTMENT OF HEALTH AND HUMAN SERVICES

Health Resources and Services Administration

Program Requirements and Review Criteria for Cooperative Agreements for Regional Centers for Health Workforce Studies

The Health Resources and Services Administration (HRSA) announces that applications will be accepted for Cooperative Agreements for fiscal year (FY) 2001 to establish or continue five Regional Centers for Health Workforce Studies (Regional Centers).

The purpose of these Cooperative Agreements is to support health workforce research, analysis and technical assistance with a State and regional focus, including issues regarding the impact of Federal initiatives aimed at improving the training of health professionals and health workforce development in general, both within specific disciplines and as they pertain to the three cross-discipline major trends (diversity, genetics, and geriatrics) identified by HRSA's Bureau of Health Professions (BHPr). In addition, patient-focused cross-discipline research and analysis of issues such as border, mental and oral health, cultural competence, and the impact of health workforce development on access to or financing of a State's or region's health care system will be addressed.

Authorizing Legislation

These Cooperative Agreements are governed by section 761 of title VII of the Public Health Service (PHS) Act (the Act), which authorizes the collection of data and the analysis of workforce related issues.

The Federal role in the conduct of these Cooperative Agreements allows for substantial Federal programmatic involvement with the planning, development, administration, and evaluation of the Regional Centers and their outputs. The BHPr program officer will be assisted in this effort by program staff of the BHPr Divisions. The Federal Government involvement will include:

(a) Participation in the identification and selection of workforce study priorities;

(b) Participation in the review and selection of research projects, which includes providing substantial guidance on Federal policy-relevant issues, or issues of particular national interest that require research and analysis. This includes identification of HRSA programmatic issues for special attention (e.g., diversity) through the Cooperative Agreements;

(c) Participation in the approval of study protocols and methodologies;

(d) Consultation regarding sub-contracts awarded under these Cooperative Agreements, including review of contracts and agreements developed during the implementation of project activities;

(e) Assistance in supplying data relevant to Regional Center studies, or in identifying sources of such data, including other Federal agencies, or other public and private organizations; defining the mission, goals and objectives for the Center;

(f) Assistance in the dissemination of results and, if appropriate, participation in their publication in peer-reviewed journals.

Availability of Funds

Approximately $1,250,000 is available to fund five regional competitive Cooperative Agreements in FY 2001. The project period will be 5 years. This is a one time competition and is not expected to be an ongoing Cooperative Agreement program. Each applicant may request up to $250,000 per year in total costs (direct plus indirect costs) for up to 5 years. Funding for years after the first year will depend on satisfactory performance and the availability of appropriations.

The award recipient institution must share in the cost of the program as follows: for each year funds are awarded under this program, the matching contribution shall be at least one-third of the amount of the Federal award for that year. Up to 50 percent of the recipient's matching contribution may be in the form of in-kind donations such as faculty time, staff time, use of computers and other shared resources.

Because the Regional Centers will have a strong regional component, the BHPr will consider the regional dimension of each center selected to ensure that the geographic distribution of the five selected centers will assure maximum geographic coverage of the nation. Five Regional Centers will be funded at this time, subject to the availability of funds, but only one Regional Center will be approved in each of five of the six geographic areas.

For purposes of this competition, the HRSA six geographic areas are:

(a) HRSA Regions 1 (Connecticut, Maine, Massachusetts, New Hampshire, Rhode Island, Vermont), 2 (New Jersey, New York, Puerto Rico, Virgin Islands), and 3 (Delaware, District of Columbia, Maryland, Pennsylvania, Virginia, West Virginia);

(b) HRSA Region 4 (Alabama, Florida, Georgia, Kentucky, Mississippi, North Carolina, South Carolina, Tennessee);

(c) HRSA Regions 5 (Illinois, Indiana, Michigan, Minnesota, Ohio, Wisconsin) and 7 (Iowa, Kansas, Missouri, Nebraska);

(d) HRSA Region 6 ( Arkansas, Louisiana, New Mexico, Oklahoma, Texas);

(e) HRSA Region 9 (American Samoa, Arizona, California, The Federated States of Micronesia, The Commonwealth of the Northern Mariana Islands, Guam, Hawaii, Nevada, The Republic of the Marshall Islands, and The Republic of Palau);

(f) HRSA Regions 8 (Colorado, Montana, North Dakota, South Dakota, Utah, Wyoming) and 10 (Alaska, Idaho, Oregon, Washington).

For a map and description of the HRSA Regions, see HRSA's web site at: http://bhpr.hrsa/gov/healthworkforce/fieldoffices.htm.

Background

The successful Regional Center applicant will have three overriding objectives:

(1) Serve as a national resource in health workforce studies (This may include congressionally-mandated studies such as the recent Pharmacy Shortage Report or lead participation in educational forums to national legislators and policymakers);

(2) Serve as a resource in health workforce studies to its State(s), region, and rural areas (This may include studies of specific health professional shortages such as nursing, or work with their States primary care offices (PCOs) and primary care associations (PCAs), and State Office of Rural Health, or lead participation in educational forums for State, rural, and local legislators and policymakers); and

(3) Serve as a resource in health workforce studies for HRSA and the BHPr (This may include national studies such as the pharmacy, the paraprofessional workforce, scope-of-practice laws, and the State Health Workforce profiles, or assisting and working with organizations such as Area Health Education Centers (AHECs) or public health training centers in workforce analysis). For examples of past studies see the BHPr, National Center for Health Workforce Information and Analysis web site at: www.bhpr.hrsa.gov/healthworkforce/.

Eligible Applicants

Eligible applicants are State or local governments, health professions schools, schools of nursing, academic health centers, community-based health facilities, and other appropriate public or private nonprofit entities. Due to the complexity of the work, experience and infrastructure in health workforce analysis and research is required.

The applicant for a Regional Center should have an established relationship with and knowledge of HRSA's health professions training grant programs and experience in providing technical assistance in health workforce analysis to State and local agencies and organizations such as PCOs and PCAs as a partnership. The applicant organization will serve as a regional resource in health workforce analysis.

The successful Regional Center applicant will be expected to produce ground-breaking reports that move the field forward, in form of peer reviewed and other publications, presentations at national and regional or State forums, and in web-based publishing. Each center must conduct high-quality research and disseminate findings to colleagues and policymakers at the institutional, Federal, and State levels.

Funding Preference

A funding preference is defined as the funding of a specific category or group of approved applications ahead of other categories of groups of applications. The following preference is available under this Cooperative Agreement:

Taking into consideration that only five Regional Centers will be funded at this time with a limitation of one Regional Center to be awarded per area as specified above, a funding preference will be given to any qualified application that will show experience with the analysis of health workforce issues as they relate to the nation's Hispanic and border populations. Providing health services to and training health care providers for these often overlapping underserved populations are high priorities for HRSA and BHPr. For example, only 62 primary care physicians per 100,000 population reside in (U.S.-Mexican) border counties compared to 105 per 100,000 nationally, and the poverty rate in these counties is much higher than the national average.

Review Criteria

Applications received will be reviewed by an ad hoc review panel using the following criteria:

(a) The degree to which the proposal contains clearly stated, realistic, and measurable objectives, especially as they relate to Federal, regional or State concerns, policies, or legislative deliberations affecting the health workforce;

(b) The proposed activities and projects for the first year must be specific in content and expected outcome. They should address the 3 major trends identified by the Bureau: genetics, geriatrics, and diversity.

(c) The qualifications and achievements of the proposed center's principal investigator and senior research staff, breadth of knowledge about health workforce disciplines, including level of productivity and national prominence in health workforce research and analysis, and the appropriateness of their time commitment;

(d) The extent of the applicant's experience with research and analysis of:

(1) Specific disciplines such as nursing, primary care medicine and medical specialties, dentistry, pharmacy, public or allied health;

(2) Health workforce issues as they pertain to the three cross-discipline major trends identified by HRSA's BHPr: diversity, genetics, and geriatrics;

(3) Health workforce issues of concern to States, rural, urban, and local areas, in partnership with State PCOs and PCAs, and State Offices of Rural Health;

(4) Issues such as border, Hispanic, mental and oral health, or cultural competence;

(5) Impact of health workforce development on a State's or region's health care system or financing.

(e) The experience and accomplishments of the applicant in health workforce issues and research directly supporting BHPr programs and priorities, especially with regard to important and high visibility contractual work;

(f) The strength of the applicant's plan to actively promote dissemination of research findings both in peer-reviewed journals and to relevant national and State policymakers;

(g) The administrative and management capability of the applicant to carry out the Cooperative Agreements, and the extent to which the budget justifications are complete, appropriate, and cost-effective; and

(h) The extent to which the applicant can demonstrate the ability to obtain non-Federal funding and resources to provide program matching and the likelihood to continue the center's workforce analytical activities beyond the project period.

These Cooperative Agreements will fund either the establishment and operation of a new health workforce research center, or the re-establishment and continuation of an existing center (four Centers for Health Workforce Studies have been in operation for a 3-year period, ending with FY 2000). The new Regional Center must be an identifiable entity within the applicant's institution rather than a set of discrete, investigator-initiated research projects pulled together in one application. It must have a director; a coherent, research agenda; and researchers who function as a team. The principal investigator must be an experienced researcher who provides research leadership and is primarily responsible for the organization and operation of the center. Each Regional center's researchers must collectively possess multidisciplinary skills and have experience in health services and workforce research. Interdisciplinary collaboration in research is encouraged. Although the center will share common resources with the applicant institution, there must be sufficient core staff with significant time commitment to the center.

The funds for each Cooperative Agreement will provide basic support for the center, including the development and implementation of its research agenda, administrative and research staff support, researcher time (although not necessarily at 100 percent), and dissemination of the center research products. Each Cooperative Agreement must not be the sole source of support for the center—the applicant institution must demonstrate a commitment to support the organizational and management structure of the centers, including a matching contribution, and its investigators should seek other funds for the support of its research agenda.

Application Requests, Dates and Address

In order to be considered for competition, applications for these Cooperative Agreements must be received by mail or delivered to the Grants Management Office no later than June 21, 2001. Completed applications should be mailed or delivered to: Grants Management Officer (BHPr), Room 8C-26, Parklawn Building, 5600 Fishers Lane, Rockville, Maryland 20857. Applications received after the deadline date or sent to any address other than that above will be returned to the applicant and not reviewed. In addition, applications which do not follow format instructions or exceed the page limitation indicated in the proposal instructions will not be accepted for processing and will be returned to the applicant.

Eligible entities interested in receiving materials regarding this program should notify HRSA. Materials will be sent only to those entities making a request. Requests for proposal instructions should be directed to the HRSA website address at http://bhpr.hrsa.gov/grants2001/. Applicants may also request a hard copy of these materials from the HRSA Grants Application Center (GAC) at 1815 North Fort Myer Drive, Suite 300, Arlington, VA 22209; telephone number 1-877-477-2123. The GAC e-mail address is: hrsa.gac@hrsa.gov.

National Health Objectives for the Year 2010

The PHS urges applicants to submit their work plans that address specific objectives of Healthy People 2010, which potential applicants may obtain through the Superintendent of Documents, Government Printing Office, Washington, DC 20402-9325 (telephone: 202-783-3238). Particular attention should focus on Healthy People 2010 Workforce Objectives, such as Objectives 1-8 (achieving minority representation in the health professions) and 23-8 (incorporating specific competencies into the public health workforce).

Smoke-Free Workplace

The Public Health Service strongly encourages all grant recipients to provide a smoke-free workplace; to promote the non-use of all tobacco products; and to promote Pub. L. 103-227, the Pro-Children Act of 1994, which prohibits smoking in certain facilities that receive Federal funds in which education, library, day care, health care, and early childhood development services are provided to children.

Additional Information

Questions concerning programmatic aspects of these Cooperative Agreements will be addressed via conference call. Details pertaining to the conference call will be announced in the application material.

Questions regarding grants policy and business management issues should be directed to: Ms. Wilma Johnson, Grants Management Officer, Bureau of Health Professions, HRSA, Room 8C-26, 5600 Fishers Lane, Rockville, Maryland 20857; telephone: (301) 443-6880.

Paperwork Reduction Act

The standard application form PHS 398, PHS Grant Application, has been approved by the Office of Management and Budget (OMB) under the Paperwork Reduction Act. The OMB clearance number is 0925-0001. OMB review and approval will be required for data collection activities resulting from these Cooperative Agreements which fall under the purview of the Paperwork Reduction Act.

This program is not subject to the provisions of Executive Order 12372, Intergovernmental Review of Federal Programs (as implemented through 45 CFR part 100). This program is also not subject to the Public Health System Reporting Requirements.

Dated: May 14, 2001.
Elizabeth M. Duke,
Acting Administrator.

[FR Doc. 01-12771 Filed 5-21-01; 8:45 am]

BILLING CODE 4160-15-P